NATIONAL TRANSPORTATION SAFETY BOARD

Sunshine Act Meeting

TIME AND DATE: 9:30 a.m., Tuesday, April 26, 2011.

PLACE: NTSB Conference Center, 429 L'Enfant Plaza, SW., Washington, DC 20594.

STATUS: The ONE item is open to the public.

MATTER TO BE CONSIDERED:

8093A Aviation Accident Report Crash During Unstabilized Approach, Empire Airlines Flight 8284, Avions de Transport Régional Aerospatiale Alenia ATR 42 320, N902FX, Lubbock, Texas, January 27, 2009.

NEWS MEDIA CONTACT: Telephone: (202) 314-6100.

The press and public may enter the NTSB Conference Center one hour prior to the meeting for set up and seating.

Individuals requesting specific accommodations should contact Rochelle Hall at (202) 314-6305 by Friday, April 22, 2011.

The public may view the meeting via a live or archived webcast by accessing a link under “News & Events” on the NTSB home page at http://www.ntsb.gov.

FOR FURTHER INFORMATION CONTACT: Candi Bing, (202) 314-6403 or by e-mail at bingc@ntsb.gov.

Dated: April 15, 2011.
Candi R. Bing,
Federal Register Liaison Officer.

[FR Doc. 2011-9565 Filed 4-15-11; 4:15 pm]

BILLING CODE 7533-01-P